NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 75 FR 61757, and no substantial comments were received. NSF is forwarding the proposed renewal submission to the Office of Management and Budget (OMB) for clearance simultaneously with the publication of this second notice. The full submission may be found at: http://www.reginfo.gov/public/do/PRAMain. Comments regarding (a) whether the collection of information is necessary for the proper performance of the functions f the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725 - 17 Street NW. Room 10235, Washington, DC 20503, and to Suzanne H. Plimpton, Reports Clearance Officer, National Science Foundation, 4201 Wilson Boulevard, Suite 295, Arlington, Virginia 22230 or send email to splimpto@nsf.gov. Individuals who use a telecommunications device for the deaf (TDD) may call the Federal Information Relay Service (FIRS) at 1-(800) 877-8339, which is accessible 24 hours a day, 7 days a week, 365 days a year (including federal holidays). Comments regarding these information collections are best assured of having their full effect if received within 30 days of this notification. Copies of the submission(s) may be obtained by calling (703) 292-7556.

NSF may not conduct or sponsor a collection of information unless the collection of information displays a currently valid OMB control number and the agency informs potential persons who are to respond to the collection of information that such persons are not required to respond to the collection of information unless it displays a currently valid OMB control number.

Title of Collection: Evaluation of the Robert Noyce Teacher Scholarship Program.

OMB Control No.: 3145-0217.

Abstract: The National Science Foundation (NSF) received clearance for the evaluation of the Robert Noyce Teacher Scholarship Program on June 13, 2011 through OMB Control Number: 3145-0217. This included collecting primary data via surveys and interviews with Principal Investigators, Faculty, Noyce Recipients, and K-12 Principals.

The Noyce program operates within NSF's Division of Undergraduate Education, and bridges the higher education and the K-12 system. The Noyce Program encourages talented science, technology, engineering, and mathematics (STEM) majors and professionals to become K-12 mathematics and science teachers. The program provides funds to institutions of higher education (IHEs) to support scholarships, stipends, and academic programs for undergraduate STEM majors and post-baccalaureate STEM students who commit to teaching in high-need K-12 school districts as a condition of receiving financial support. Additionally, the program provides support to undergraduate freshmen and sophomores who serve as summer interns in STEM educational settings as an introduction to a possible career in teaching.

Under the NSF Teaching Fellowship and Master Teaching Fellowship track, the Noyce program supports STEM professionals who enroll as NSF Teaching Fellows (TFs) in master's degree programs leading to teacher certification by providing academic courses, professional development, and salary supplements as the Teaching Fellows fulfill a four-year teaching commitment in a high need school district. This track also supports exemplary math and science teachers, who have master's degrees, to become Master Teaching Fellows (MTFs) in high need school districts by providing professional development and salary supplements.

Since TFs are supported by the Noyce program in preparing for teacher certification and their early years of teaching, they will take the same survey that will be given to other recipients previously approved by OMB.

NSF has developed a new survey as part of the overall evaluation for the MTFs. The MTF survey will be similar to the other recipient surveys for recipients who are teaching. However, it will focus more on the leadership activities expected of these more experienced teachers. Since MTFs were not supported by the Noyce Program in preparing for certification or their early teaching years, there are no questions in this survey about their teacher preparation program or support during early teaching.

Respondents: Individuals, Federal Government, State, Local or Tribal Government and not-for-profit institutions.

Estimated Number of Respondents: 104.

Burden on the Public: 52 hours.

Dated: December 8, 2011.
Suzanne H. Plimpton,
Reports Clearance Officer, National Science Foundation.

[FR Doc. 2011-31904 Filed 12-12-11; 8:45 am]

BILLING CODE 7555-01-P